DEPARTMENT OF COMMERCE

National Oceanic and Atmospheric Administration

[RTID 0648-XC204]

Fisheries of the Exclusive Economic Zone off Alaska; Enforcement, Compliance Assistance, and General Outreach and Education Meeting

AGENCY: National Marine Fisheries Service (NMFS), National Oceanic and Atmospheric Administration (NOAA), Commerce.

ACTION: Notice of a public meeting.

SUMMARY: NOAA Office of Law Enforcement, Alaska Division, in collaboration with Sustainable Fisheries Division, Workforce Violence Prevention and Response (WVPR) Program, and Fisheries Monitoring and Analysis Division will host/attend a public outreach meeting with public and fishing industry constituents. Topics will include ensuring a safe working environment for observers, WVPR's role in working with/supporting observers, Limited Access Privilege Program operating requirements, prohibited species issues, recordkeeping and reporting regulations, and open question/answer session.

DATES: The public meeting will be held from July 26, 2022, from 9 a.m. to 12:30 p.m. Alaska Daylight Saving Time.

ADDRESSES: The public meeting will be held at the Grand Aleutian Hotel, Makushin conference room, 498 Salmon Way, Unalaska, AK 99692.

Remote Attendance Information: (US) +1 401-594-3268 PIN: 291 992 370#

FOR FURTHER INFORMATION CONTACT: Alex Perry, 907-271-3021.

SUPPLEMENTARY INFORMATION: No rulemaking or decision-making will result from these meetings, and NOAA is not seeking recommendations, advice or consensus from any entity.

Dated: July 25, 2022.
Jennifer M. Wallace,
Acting Director, Office of Sustainable Fisheries, National Marine Fisheries Service.

[FR Doc. 2022-16220 Filed 7-25-22; 4:15 pm]

BILLING CODE 3510-22-P